DEPARTMENT OF ENERGY

Federal Energy Regulatory Commission

Combined Notice of Filings #1

Take notice that the Commission received the following electric corporate filings:

Docket Numbers: EC14-89-000.

Applicants: PEI Power II, LLC.

Description: Application For Authorization Under Section 203 Of The Federal Power Act, Requests For Waivers Of Filing Requirements, Expedited Review And Confidential Treatment of PEI Power II, LLC.

Filed Date: 5/21/14.

Accession Number: 20140521-5118.

Comments Due: 5 p.m. ET 6/11/14.

Take notice that the Commission received the following exempt wholesale generator filings:

Docket Numbers: EG14-57-000.

Applicants: West Deptford Energy Associates Urban Re.

Description: Notice of Self-Certification of Exempt Wholesale Generator Status of West Deptford Energy Associates Urban Renewal, L.P.

Filed Date: 5/21/14.

Accession Number: 20140521-5082.

Comments Due: 5 p.m. ET 6/11/14.

Take notice that the Commission received the following electric rate filings:

Docket Numbers: ER14-1751-000; ER14-1751-001.

Applicants: C2K Energy, LLC.

Description: Supplement to April 22, 2014 and May 7, 2014 C2K Energy, LLC tariff filing.

Filed Date: 5/21/14.

Accession Number: 20140521-5039.

Comments Due: 5 p.m. ET 6/11/14.

Docket Numbers: ER14-1984-000.

Applicants: AEP Energy Partners, Inc.

Description: Application for Authorization to make affiliate sales with Ohio Valley Electric Corporation of AEP Energy Partners, Inc.

Filed Date: 5/19/14.

Accession Number: 20140519-5173.

Comments Due: 5 p.m. ET 6/9/14.

Docket Numbers: ER14-1994-000.

Applicants: Southern California Edison Company.

Description: GIA and Distribution Service Agreement with SunEdison for 1050 South Dupont to be effective 5/22/2014.

Filed Date: 5/21/14.

Accession Number: 20140521-5001.

Comments Due: 5 p.m. ET 6/11/14.

Docket Numbers: ER14-1995-000.

Applicants: Southern California Edison Company.

Description: GIA and Distribution Service Agreement with SunEdison for 5491 E Philadelphia to be effective 5/22/2014.

Filed Date: 5/21/14.

Accession Number: 20140521-5002.

Comments Due: 5 p.m. ET 6/11/14.

Docket Numbers: ER14-1996-000.

Applicants: Southern California Edison Company.

Description: GIA and Distribution Service Agreement with SunEdison for IM Fontana Project to be effective 5/22/2014.

Filed Date: 5/21/14.

Accession Number: 20140521-5003.

Comments Due: 5 p.m. ET 6/11/14.

Docket Numbers: ER14-1997-000.

Applicants: PJM Interconnection, L.L.C.

Description: Notice of Cancellation of Original Service Agreement No. 2857; Queue No. W1-120 to be effective 2/14/2011.

Filed Date: 5/21/14.

Accession Number: 20140521-5059.

Comments Due: 5 p.m. ET 6/11/14.

Docket Numbers: ER14-1998-000.

Applicants: PJM Interconnection, L.L.C.

Description: First Revised Service Agreement No. 3247; Queue No. W1-120 to be effective 4/30/2014.

Filed Date: 5/21/14.

Accession Number: 20140521-5063.

Comments Due: 5 p.m. ET 6/11/14.

Docket Numbers: ER14-1999-000.

Applicants: PJM Interconnection, L.L.C.

Description: Notice of Cancellation of Original Service Agreement No. 2935; Queue No. W2-082 to be effective 9/22/2011.

Filed Date: 5/21/14.

Accession Number: 20140521-5074.

Comments Due: 5 p.m. ET 6/11/14.

Docket Numbers: ER14-2000-000.

Applicants: Duke Energy Commercial Asset Management.

Description: DECAM Notice of Succession Filing to be effective 4/24/2014.

Filed Date: 5/21/14.

Accession Number: 20140521-5075.

Comments Due: 5 p.m. ET 6/11/14.

Docket Numbers: ER14-2001-000.

Applicants: PJM Interconnection, L.L.C.

Description: First Revised Service Agreement No. 3082; Queue No. W2-082 to be effective 4/30/2014.

Filed Date: 5/21/14.

Accession Number: 20140521-5081.

Comments Due: 5 p.m. ET 6/11/14.

Docket Numbers: ER14-2002-000.

Applicants: PJM Interconnection, L.L.C.

Description: Notice of Cancellation of Original Service Agreement No. 2930; Queue No. W2-083 to be effective 2/14/2012.

Filed Date: 5/21/14.

Accession Number: 20140521-5085.

Comments Due: 5 p.m. ET 6/11/14.

Docket Numbers: ER14-2003-000.

Applicants: PJM Interconnection, L.L.C.

Description: Ministerial Clean-Up re RAA Article 1 and Sched 8.1.D due to Overlapping Filings to be effective 3/2/2014.

Filed Date: 5/21/14.

Accession Number: 20140521-5110.

Comments Due: 5 p.m. ET 6/11/14.

Docket Numbers: ER14-2004-000.

Applicants: Southwest Power Pool, Inc.

Description: Notice of Cancellation of Ninnescah Wind Large Generator Interconnection Service Agreement of Southwest Power Pool, Inc.

Filed Date: 5/21/14.

Accession Number: 20140521-5117.

Comments Due: 5 p.m. ET 6/11/14.

Docket Numbers: ER14-2005-000.

Applicants: Midcontinent Independent System Operator, Wolverine Power Supply Cooperative, Inc.

Description: 2014-05-21_SA 1367 Wolverine-METC Redwood IFA to be effective 5/16/2014.

Filed Date: 5/21/14.

Accession Number: 20140521-5130.

Comments Due: 5 p.m. ET 6/11/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 21, 2014.
Nathaniel J. Davis, Sr.,
Deputy Secretary.

[FR Doc. 2014-12710 Filed 6-2-14; 8:45 am]

BILLING CODE 6717-01-P